DEPARTMENT OF COMMERCE

National Oceanic and Atmospheric Administration

Proposed Information Collection; Comment Request; National Oceanographic Data Center Send2NODC Web Application

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 14, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Donald W. Collins, (301) 713-3272 x154 or Donald.Collins@noaa.gov.

SUPPLEMENTARY INFORMATION:

I. Abstract

This request is for reinstatement with change of a previously approved information collection.

When creating a Request to Archive oceanographic data or information at the United States (U.S.) National Oceanographic Data Center (NODC), well-organized and complete metadata describing those data are needed for long term understanding and use of those data. The Send2NODC web application provides a web-based form for easily collecting required and optional descriptive metadata to describe oceanographic data in a way that supports Executive Order 12906 and structures those metadata to conform to the internationally used ISO 19115-2 Geospatial Metadata standard. Descriptive metadata informs the suitability of data for use by future data users and should provide critical context about how data were collected, what techniques and measurements were made, and data quality characterizations. Information about the data provider or other individuals is only used by NODC to contact the data provider with questions about submitted data, about the status of the data in the archival process, and to provide appropriate scientific recognition and attribution for submitted data. Send2NODC will be used by ocean scientists, principal investigators and their data managers.

II. Method of Collection

Respondents use the browser-based Send2NODC web application to provide information that was previously collected on a paper or electronic form. Using electronic File Transfer Protocol (FTP) to transfer digital files from the Data Provider to NODC are integrated into the Send2NODC web application, but the respondent may opt to send digital files to NODC using other media, such as on CD- or DVD-ROM discs or other media.

III. Data

OMB Control Number: 0648-0024.

Form Number: NOAA 24-13.

Type of Review: Regular submission (reinstatement with change).

Affected Public: Non-profit institutions; State, local, or tribal government; business or other for-profit organizations.

Estimated Number of Respondents: 300.

Estimated Time per Response: One hour.

Estimated Total Annual Burden Hours: 300.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 11, 2014
Gwellnar Banks,
Management Analyst, Office of the Chief Information Officer.

[FR Doc. 2014-19317 Filed 8-14-14; 8:45 am]

BILLING CODE 3510-HR-P